DEPARTMENT OF HOMELAND SECURITY

Coast Guard

DEPARTMENT OF TRANSPORTATION

Maritime Administration

[USCG-2002-14134]

Port Pelican LLC Deepwater Port License Application; Fabrication Site Environmental Assessment

AGENCY: Coast Guard, DHS; Maritime Administration, DOT.

ACTION: Notice.

SUMMARY: The Coast Guard and the Maritime Administration (MARAD) announce the cancellation of an Environmental Assessment (EA) that they previously planned as a follow-up to MARAD's approval of the license application for the Port Pelican LLC Deepwater Port in the Gulf of Mexico off Louisiana. The EA would have assessed the environmental impact of related shoreside fabrication site activities in Texas. The Coast Guard and MARAD are canceling the EA, due to Port Pelican LLC's decision to defer these fabrication site activities indefinitely.

FOR FURTHER INFORMATION CONTACT: If you have questions about the Port Pelican LLC Deepwater Port project, contact LCDR Derek Dostie, Deepwater Ports Standards Division, United States Coast Guard at (202) 267-0662 or ddostie@comdt.uscg.mil.

SUPPLEMENTARY INFORMATION: On November 14, 2003, the Maritime Administrator issued a Record of Decision (ROD) approving the application of Port Pelican LLC for a license to construct and operate a liquefied natural gas deepwater port on the Outer Continental Shelf, in the Gulf of Mexico approximately 36 miles south-southwest of Freshwater City, LA.

As indicated in the deepwater port?s final Environmental Impact Statement (notice of availability, 68 FR 52048, August. 29, 2003) and in the ROD, the deepwater port would use concrete structures prefabricated at a shoreside site and approval of the deepwater port license application was conditioned on Coast Guard and MARAD issuance of a supplemental National Environmental Policy Act of 1969 (NEPA) document to assess the impact of the shoreside fabrication site activities. On June 25, 2004, the Coast Guard and MARAD announced their intent to prepare that EA.

Port Pelican LLC has now informed the Coast Guard and MARAD that it will not pursue its plans for the Port Aransas site at this time, and therefore the Coast Guard and MARAD are canceling their plans for the supplemental EA. The Coast Guard and MARAD will publicly announce resumption of NEPA document preparation should Port Pelican LLC elect to resume its plans for shoreside fabrication activities.

Dated: September 23, 2005.
Howard L. Hime,
Acting Director of Standards, Marine Safety, Security, Ports and Environmental Protection, U.S. Coast Guard.
H. Keith Lesnick,
Senior Transportation Specialist, Deepwater Ports Program Manager, U.S. Maritime Administration.

[FR Doc. 05-19854 Filed 10-3-05; 8:45 am]

BILLING CODE 4910-15-P